ENVIRONMENTAL PROTECTION AGENCY

[EPA-HQ-OPPT-2019-0456; FRL-10008-69-OMS]

Information Collection Request Submitted to OMB for Review and Approval; Comment Request; Formaldehyde Emissions Standards for Composite Wood Products Act (Renewal)

AGENCY: Environmental Protection Agency (EPA).

ACTION: Notice.

SUMMARY: The Environmental Protection Agency (EPA) has submitted an information collection request (ICR), Formaldehyde Emissions Standards for Composite Wood Products Act (EPA ICR Number 2446.03 and OMB Control Number 2070-0185) to the Office of Management and Budget (OMB) for review and approval in accordance with the Paperwork Reduction Act. This is a proposed extension of the ICR, which is currently approved through June 30, 2020. Public comments were previously requested via the Federal Register on January 20, 2020 during a 60-day comment period. This notice allows for an additional 30 days for public comments. A fuller description of the ICR is given below, including its estimated burden and cost to the public. An agency may not conduct or sponsor and a person is not required to respond to a collection of information unless it displays a currently valid OMB control number.

DATES: Comments must be received on or before July 23, 2020.

ADDRESSES: Submit your comments, referencing Docket ID Number EPA-HQ-OPPT-2019-0456 to EPA online using www.regulations.gov. The EPA Docket Center and Reading Room was closed to public visitors on March 31, 2020 to reduce the risk of transmitting COVID-19. There is a temporary suspension of mail delivery to EPA, and no hand deliveries are currently accepted. For further information on EPA Docket Center services and the current status, please visit https://www.epa.gov/dockets.

EPA's policy is that all comments received will be included in the docket without change, including any personal information provided, unless the comment includes profanity, threats, information claimed to be Confidential Business Information (CBI), or other information whose disclosure is restricted by statute. Do not submit electronically any information you consider to be CBI or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Todd Coleman, National Program Chemicals Division, Office of Pollution Prevention and Toxics, Environmental Protection Agency, 1200 Pennsylvania Ave. NW, Washington, DC 20460-0001; telephone number: (202) 564-1208; email address: coleman.todd@epa.gov.

SUPPLEMENTARY INFORMATION: Supporting documents, which explain in detail the information that the EPA will be collecting, are available in the public docket for this ICR. The docket can be viewed online at www.regulations.gov. Out of an abundance of caution for members of the public and our staff, the EPA Docket Center and Reading Room was closed to public visitors on March 31, 2020, to reduce the risk of transmitting COVID-19. Our Docket Center staff will continue to provide remote customer service via email, phone, and webform. For further information on EPA Docket Center services and the current status, please visit https://www.epa.gov/dockets.

Abstract: This ICR renewal covers the recordkeeping and reporting requirements for all aspects of the TSCA Title VI implementing regulations and regulations relating to accreditation bodies (ABs) and third-party certifiers (TPCs) that wish to participate in this third-party certification program. These ABs and TPCs must submit initial applications for recognition and update those applications every three and two years respectively using the Agency's Central Data Exchange (CDX) system. In addition, ABs and TPCs must submit annual reports which relay certain information to the Agency on the TSCA Title VI certification and testing activities both ABs and TPCs have performed over the last year.

TPCs are responsible for the certification of regulated composite wood products at the mill level through the oversight of panel producers, routine quarterly testing of composite wood products, and physical inspections of the panel production facilities. Through CDX, TPCs are responsible for reporting information including various notifications and annual reports.

Panel producers are responsible for communicating routine testing documentation to their respective TPC pursuant to their responsibilities under 40 CFR 770.20 and 40 CFR 770.40. Panel producers are also responsible for providing certain records to downstream entities and purchasers of regulated composite wood products as well as the Agency, upon request.

Importers, fabricators, distributors, and retailers are responsible for maintaining records pursuant to 40 CFR 770.30 and 40 CFR 770.40(d).

Respondents/Affected Entities: Panel producers, fabricators, distributors, retailers, TPCs, and ABs.

Respondent's obligation to respond: Mandatory (15 U.S.C. 2697).

Estimated total number of potential respondents: 990,269 firms (total).

Frequency of response: On occasion.

Estimated total burden: 84,793 hours (per year). Burden is defined at 5 CFR 1320.3(b).

Estimated total costs: $19,638,018 (per year), with no annualized capital or operation and maintenance costs.

Changes in the estimates: There is an overall decrease of 1,396,732 hours in the total estimated combined respondent burden that is currently approved by OMB. The decrease is due to adjustments in EPA's estimates of the burden, including revisions to the estimated burden reflecting activities that only had one-time burdens associated with the initial implementation of the rule, and revisions to the estimated number of respondents based on the actual number of participants in the TSCA Title VI program.

Courtney Kerwin,
Director, Regulatory Support Division.

[FR Doc. 2020-13456 Filed 6-22-20; 8:45 am]

BILLING CODE 6560-50-P